DEPARTMENT OF COMMERCE

National Oceanic and Atmospheric Administration

50 CFR Part 622

[Docket No. 140819687-5583-02; RTID 0648-XF497]

Coastal Migratory Pelagic Resources of the Gulf of America and Atlantic Region; 2025-2026 Commercial Closure for Spanish Mackerel in the Atlantic Southern Zone

AGENCY: National Marine Fisheries Service (NMFS), National Oceanic and Atmospheric Administration (NOAA), Commerce.

ACTION: Temporary rule; closure.

SUMMARY: NMFS closes commercial harvest for the Atlantic migratory group of Spanish mackerel in the southern zone. NMFS projects that landings of Spanish mackerel will soon reach the commercial quota for the Atlantic southern zone in the 2025-2026 fishing year. Accordingly, NMFS closes the Atlantic southern zone to commercial harvest of Spanish mackerel. This closure is necessary to protect the Spanish mackerel resource in the Atlantic.

DATES: This temporary rule is effective from February 7, 2026, through February 28, 2026.

FOR FURTHER INFORMATION CONTACT: Mary Vara, NMFS Southeast Regional Office, telephone: 727-824-5305, or email: mary.vara@noaa.gov.

SUPPLEMENTARY INFORMATION: The fishery for coastal migratory pelagic fish in the Atlantic exclusive economic zone (EEZ) includes king mackerel, Spanish mackerel, and cobia on the east coast of Florida, and is managed under the Fishery Management Plan for the Coastal Migratory Pelagic Resources of the Gulf and Atlantic Region (FMP). The FMP was prepared by NMFS and the Gulf and South Atlantic Fishery Management Councils. NMFS implements the FMP through regulations at 50 CFR part 622 under the authority of the Magnuson-Stevens Fishery Conservation and Management Act (Magnuson-Stevens Act).

All weights described in this document for the Atlantic migratory group of Spanish mackerel (Atlantic Spanish mackerel) apply as either round or gutted weight. The metric conversion for the imperial measurement used in this document is 1 pound (lb) equals approximately 0.45 kilograms.

For management purposes, the commercial sector of Atlantic Spanish mackerel is divided into northern and southern zones. The southern zone for Atlantic Spanish mackerel consists of Federal waters off South Carolina, Georgia, and the east coast of Florida as specified in 50 CFR 622.369(b)(2)(ii). The southern zone boundaries extend from the border of North Carolina and South Carolina, which is a line extending in a direction of 135°34′55″ from true north beginning at 33°51′07.9″ N latitude and 78°32′32.6″ W longitude to the intersection point with the outward boundary of the EEZ, to a line at 25°20′24″ N latitude, which is the border of Miami-Dade and Monroe Counties in Florida (table 2 to § 622.369).

The southern zone commercial quota for Atlantic Spanish mackerel is 2,667,330 lb [50 CFR 622.384(c)(2)(ii)]. Regulations at 50 CFR 622.388(d)(1)(i) require NMFS to close the commercial sector for Atlantic Spanish mackerel in the southern zone when the commercial quota is projected to be reached by filing a notification to that effect with the Office of the Federal Register. NMFS projects that the commercial quota for Atlantic Spanish mackerel in the southern zone will be reached by February 7, 2026. Accordingly, the commercial sector for Atlantic Spanish mackerel in the southern zone is closed from February 7, 2026, through February 28, 2026, which is the end of the current fishing year.

During the commercial closure, a person on a vessel issued a valid Federal permit to harvest Atlantic Spanish mackerel may continue to retain this species in the southern zone under the recreational bag and possession limits as long as the recreational sector for Atlantic Spanish mackerel is open [50 CFR 622.384(e)(1)]. Regulations at 50 CFR 622.382(a)(1)(iii) and (a)(2) specify the bag and possession limits.

Also during the commercial closure, Atlantic Spanish mackerel harvested from the southern zone, including those harvested under the bag and possession limits, may not be purchased or sold. This prohibition does not apply to Atlantic Spanish mackerel from the southern zone that were harvested, landed ashore, and sold prior to the closure and were held in cold storage by a dealer or processor [50 CFR 622.384(e)(2)].

The 2026-2027 fishing year for Atlantic Spanish mackerel in the northern and southern zones begins on March 1, 2026.

Classification

NMFS issues this action pursuant to section 305(d) of the Magnuson-Stevens Act. This action is required by 50 CFR 622.388(d)(1)(i), which was issued pursuant to section 304(b) of the Magnuson-Stevens Act, and is exempt from review under Executive Order 12866.

Pursuant to 5 U.S.C. 553(b)(B), there is good cause to waive prior notice and an opportunity for public comment on this action, as notice and comment is unnecessary and contrary to the public interest. Such procedure is unnecessary because the regulation associated with the commercial closure for Atlantic Spanish mackerel has already been subject to notice and public comment, and all that remains is to notify the public of the commercial closure. Prior notice and opportunity for public comment on this action is contrary to the public interest because of the need to immediately implement the commercial closure to protect the Atlantic Spanish mackerel resource. The capacity of the fishing fleet allows for rapid harvest of the commercial quota, and any delay in the commercial closure could result in the exceedance of the commercial quota. Prior notice and opportunity for public comment would require time and would potentially result in a harvest that exceeds the commercial quota.

For the same reasons just stated, there is good cause under 5 U.S.C. 553(d)(3) to waive the 30-day delay in effectiveness of this action.

Authority: 16 U.S.C. 1801 et seq.

Dated: February 2, 2026.
Kelly Denit,
Director, Office of Sustainable Fisheries, National Marine Fisheries Service.

[FR Doc. 2026-02275 Filed 2-2-26; 4:15 pm]

BILLING CODE 3510-22-P